FEDERAL ELECTION COMMISSION

Sunshine Act Meeting

AGENCY: Federal Election Commission.

Date & Time: Tuesday, November 17, 2015 at 10:00 a.m. and Thursday, November 19, 2015 at 1:30 p.m.

PLACE: 999 E Street NW., Washington, DC.

STATUS: This meeting will be closed to the public.

FEDERAL REGISTER NOTICE OF PREVIOUS ANNOUNCEMENT —Scheduled to be published on November 13, 2015.

CHANGE IN THE MEETING: The meeting will commence at the conclusion of the Open Meeting on November 17, 2015.

* * * * *

PERSON TO CONTACT FOR INFORMATION: Judith Ingram, Press Officer, Telephone: (202) 694-1220.

Shelley E. Garr,
Deputy Secretary.

[FR Doc. 2015-29279 Filed 11-12-15; 11:15 am]

BILLING CODE 6715-01-P